EXPORT-IMPORT BANK

Sunshine Act Meetings

Notice of Open Meeting of the Sub-Saharan Africa Advisory Committee of the Export-Import Bank of the United States (EXIM)

TIME AND DATE: Monday, September 11th, 2023, from 2 p.m.-3:30 p.m. EDT.

PLACE: Virtual meeting—The meeting will be virtually for committee members, EXIM's Board of Directors and support staff, and virtually for all other participants.

STATUS: Public Participation: The meeting will be open to public participation and time will be allotted for questions or comments submitted online. Members of the public may also file written statements before or after the meeting to external@exim.gov. Interested parties may register below for the meeting: https://events.teams.microsoft.com/event/762a4fb9-53bb-4114-ba3e-11b057cf3527@b953013c-c791-4d32-996f-518390854527.

MATTERS TO BE CONSIDERED: Discussion of EXIM policies and programs designed to support the expansion of financing support for U.S. manufactured goods and services in Sub-Saharan Africa.

CONTACT PERSON FOR MORE INFORMATION: For further information, contact India Walker, Senior External Engagement Specialist, at 202-480-0062 or at india.walker@exim.gov.

Joyce B. Stone,
Assistant Corporate Secretary.

[FR Doc. 2023-18904 Filed 8-29-23; 11:15 am]

BILLING CODE 6690-01-P